DEPARTMENT OF TRANSPORTATION

Federal Aviation Administration

Notice of Intent To Rule on Request To Release Airport Property at Ardmore Municipal Airport, Ardmore, OK

AGENCY: Federal Aviation Administration (FAA), DOT.

ACTION: Notice of request to release airport property.

SUMMARY: The FAA proposes to rule and invites public comment on the release of land at Ardmore Municipal Airport under the provisions of Title 49 United States Code, Section 47153.

DATES: Comment must be received on or before March 1, 2005.

ADDRESSES: Comments on this application may be mailed or delivered to the FAA at the following address: Mr. Edward N. Agnew, Manager, Federal Aviation Administration, Southwest Region, Airports Division, Arkansas/Oklahoma Airport Development Office, ASW-630; Forth Worth, Texas 76193-0630.

In addition, one copy of any comments submitted to the FAA must be mailed or delivered to Mayor Sheryl Ellis, City of Ardmore, at the following address: P.O. Box 249, 23 South Washington Street, Ardmore, OK 73402.

FOR FURTHER INFORMATION CONTACT: Mr. Donald C. Harris, Senior Program Manager, Federal Aviation Administration, Arkansas/Oklahoma Airports Development Office, ASW-631, 2601 Meacham Boulevard, Fort Worth, Texas 76137-4298.

The request to release property may be reviewed in person at this same location.

SUPPLEMENTARY INFORMATION: The FAA invites public comment on the request to release property at the Ardmore Municipal Airport under the provisions of the Act.

On November 17, 2004, the FAA determined that the request to release property at Ardmore Municipal Airport submitted by the city of Ardmore met the procedural requirements of the Federal Aviation Regulations, Part 155. The FAA may approve the request, in whole or in part, no later than March 15, 2005.

The following is a brief overview of the request: The Ardmore Airport Development Authority requests the release of 10 (ten) acres of airport property. The release of property will allow for industrial development projects to proceed. The sale is estimated to provide $25,000.00 to be placed toward the purchase of an airport rescue and firefighting vehicle.

Any person may inspect the request in person at the FAA office listed above under FOR FURTHER INFORMATION CONTACT.

In addition, any person may, upon request, inspect the application, notice and other documents germane to the application in person at the Ardmore Municipal Airport.

Issued in Fort Worth, Texas, on January 24, 2005.
Rick Marinelli,
Acting Manager, Airports Division.

[FR Doc. 05-1919 Filed 2-1-05; 8:45 am]

BILLING CODE 4910-13-M